DEPARTMENT OF HOUSING AND URBAN DEVELOPMENT

[Docket No. FR-4901-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Albert F. Lowas, Jr., Air Force Real Property Agency, 1700 North Moore Street, Suite 2300, Arlington, VA 22209-2802; (703) 696-5501; Army: Ms. Audrey C. Ormerod, Headquarters, Department of the Army, Office of the Assistant Chief of Staff for Installation Management, Attn: DAIM-MD, 600 Army Pentagon, Washington, DC 20310-0600; (703) 601-2520; COE: Ms. Shirley Middleswarth, Army Corps of Engineers, Civil Division, Directorate of Real Estate, 441 G Street, NW., Washington, DC 20314-1000; (202) 761-7425; Energy: Mr. Andy Duran, Department of Energy, Office of Engineering & Construction Management, ME-90, 1000 Independence Ave, SW., Washington, DC 20585: (202) 586-4548; GSA: Mr. Brian K. Polly, Assistant Commissioner, General Services Administration, Office of Property Disposal, 18th and F Streets, NW., Washington, DC 20405; (202) 501-0084; Interior: Ms. Linda Tribby, Acquisition & Property Management, Department of the Interior, 1849 C Street, NW., MS5512, Washington, DC 20240; (202) 219-0728; Navy: Mr. Charles C. Cocks, Department of the Navy, Real Estate Policy Division, Naval Facilities Engineering Command, Washington Navy Yard, 1322 Patterson Ave., SE., Suite 1000, Washington, DC 20374-5065; (202) 685-9200; (These are not toll-free numbers).

Dated: December 2, 2004.
Mark R. Johnston,
Director, Office of Special Needs Assistance Programs.

Title V, Federal Surplus Property Program Federal Register Report for 12/10/04

Suitable/Available Properties

Buildings (by State)

Arizona

Bldg. 43002

Fort Huachuca

Cochise Co: AZ 85613-7010

Landholding Agency: Army

Property Number: 21200440066

Status: Excess

Comment: 23,152 sq. ft., presence of asbestos/lead paint, most recent use—dining, off-site use only

California

Former Radio Relay Station

Blue Ridge Road Mount Vaca

Solano Co: CA

Landholding Agency: GSA

Property Number: 54200440017

Status: Unutilized

Comment: 1352 sq. ft. communication station/approx. 38 acres, no water, steep hillsides/4-wheel drive recommended, communication licenses

GSA Number: 9-J-CA-1631

District of Columbia

5 Bldgs.

Walter Reed Army Medical Center

Washington Co: DC 20012-

Location: 19, 22, 26, 30, 35

Landholding Agency: Army

Property Number: 21200440067

Status: Excess

Comment: 3893 sq. ft., residential, off-site use only

Kansas

Dwelling

Admin Area Wilson Lake

Sylvan Grove Co: KS 67481-

Landholding Agency: COE

Property Number: 31200440001

Status: Excess

Comment: 1600 sq. ft. residence, off-site use only

Dwelling

Admin Area Wilson Lake

Sylvan Grove Co: KS 67481-

Landholding Agency: COE

Property Number: 31200440002

Status: Excess

Comment: 1600 sq. ft., storage, off-site use only

Maryland

Bldg. 0401A

Aberdeen Proving Grounds

Aberdeen Co: Harford MD 21005-

Landholding Agency: Army

Property Number: 21200440068

Status: Unutilized

Comment: 220 sq. ft., needs rehab, most recent use—storage, off-site use only

Bldg. 0748A

Aberdeen Proving Grounds

Aberdeen Co: Harford MD 21005-

Landholding Agency: Army

Property Number: 21200440069

Status: Unutilized

Comment: 112 sq. ft., needs rehab, most recent use—shelter, off-site use only

Bldg. 01198

Aberdeen Proving Grounds

Aberdeen Co: Harford MD 21005-

Landholding Agency: Army

Property Number: 21200440070

Status: Unutilized

Comment: 168 sq. ft., needs rehab, most recent use—ordnance, off-site use only

Bldg. 03557

Aberdeen Proving Grounds

Aberdeen Co: Harford MD 21005-

Landholding Agency: Army

Property Number: 21200440071

Status: Unutilized

Comment: 340 sq. ft., needs rehab, most recent use—storage, off-site use only

Bldg. E3732

Aberdeen Proving Grounds

Aberdeen Co: Harford MD 21005-

Landholding Agency: Army

Property Number: 21200440072

Status: Unutilized

Comment: 1080 sq. ft., needs rehab, most recent use—storage, off-site use only

Bldg. E5876

Aberdeen Proving Grounds

Aberdeen Co: Harford MD 21005-

Landholding Agency: Army

Property Number: 21200440073

Status: Unutilized

Comment: 1192 sq. ft., needs rehab, most recent use—storage, off-site use only

Social Security Bldg.

688 East Main Street

Salisbury Co: Wicomico MD 21804-

Landholding Agency: GSA

Property Number: 54200440010

Status: Surplus

Comment: 7200 sq. ft., needs repair, most recent use—office

GSA Number: 4-G-MD-618

Montana

Metal Shed

18 SW of Chester

Chester Co: Liberty MT 59522-

Landholding Agency: Interior

Property Number: 61200440001

Status: Excess

Comment: 220 sq. ft., most recent use—storage, off-site use only

New York

Bldg. 1227

U.S. Military Academy

Highlands Co: Orange NY 10996-1592

Landholding Agency: Army

Property Number: 21200440074

Status: Unutilized

Comment: 3800 sq. ft., needs repair, possible asbestos/lead paint, most recent use—maintenance, off-site use only

Texas

29 Bldgs.

Fort Sam Houston

Canyon Lake Co: TX-

Location: S-34 thru S-39, S-40 thru S-63

Landholding Agency: Army

Property Number: 21200440076

Status: Unutilized

Comment: 924 sq. ft., mobile homes, off-site use only

Virginia

Bldg. 01025

Fort Belvoir

Ft. Belvoir Co: Fairfax VA 22060-

Landholding Agency: Army

Property Number: 21200440108

Status: Unutilized

Comment: 3594 sq. ft., presence of asbestos, most recent use—chapel, off-site use only

Bldgs. 01804, 01824

Fort Belvoir

Ft. Belvoir Co: Fairfax VA 22060-

Landholding Agency: Army

Property Number: 21200440109

Status: Unutilized

Comment: 3960 sq. ft., presence of asbestos, most recent use—chapel, off-site use only

Land (by State)

Indiana

Patriot Boat Ramp

Rt 156

Switzerland Co: IN-

Landholding Agency: GSA

Property Number: 54200440009

Status: Excess

Comment: 34.11 acres, parking and boat launch, flowage easement

GSA Number: 1-D-IN-571-B

New Jersey

Storage Site

Black Oak Ridge Road

Wayne Co: Passaic NJ

Landholding Agency: GSA

Property Number: 54200440011

Status: Excess

Comment: 6.5 acres, utility infrastructure exist

GSA Number: 1-B-NJ-0653

Texas

1 acre

Fort Sam Houston

San Antonio Co: Bexar TX 78234-

Landholding Agency: Army

Property Number: 21200440075

Status: Excess

Comment: 1 acre, grassy area

Suitable/Unavailable Properties

Buildings (by State)

Texas

Bldg. 00255

Fort Hood

Bell Co: TX 76544-

Landholding Agency: Army

Property Number: 21200440077

Status: Excess

Comment: 528 sq. ft., possible asbestos, off-site use only

3 Bldgs.

Fort Hood

Bell Co: TX 76544-

Location: 00256, 00257, 00258

Landholding Agency: Army

Property Number: 21200440078

Status: Excess

Comment: 2504 sq. ft., possible asbestos, most recent use—classroom, off-site use only

Bldgs. 00259, 00267

Fort Hood

Bell Co: TX 76544-

Landholding Agency: Army

Property Number: 21200440079

Status: Excess

Comment: 288 & 168 sq. ft., possible asbestos, most recent use—lunch room, off-site use only

Bldgs. 00268-00269

Fort Hood

Bell Co: TX 76544-

Landholding Agency: Army

Property Number: 21200440080

Status: Excess

Comment: 2304 sq. ft., possible asbestos, most recent use—instruction, off-site use only

3 Bldgs.

Fort Hood

Bell Co: TX 76544-

Location: 00716, 00717, 00718

Landholding Agency: Army

Property Number: 21200440081

Status: Excess

Comment: 3200 sq. ft., possible asbestos, most recent use—hq. bldg., off-site use only

Bldg. 00720

Fort Hood

Bell Co: TX 76544-

Landholding Agency: Army

Property Number: 21200440082

Status: Excess

Comment: 3200 sq. ft., possible asbestos, most recent use—shipping, off-site use only

Bldg. 00722

Fort Hood

Bell Co: TX 76544-

Landholding Agency: Army

Property Number: 21200440083

Status: Excess

Comment: 2665 sq. ft., possible asbestos, most recent use—dining, off-site use only

Bldg. 00728

Fort Hood

Bell Co: TX 76544-

Landholding Agency: Army

Property Number: 21200440084

Status: Excess

Comment: 2400 sq. ft., possible asbestos, most recent use—hq. bldg., off-site use only

Bldg. 00729

Fort Hood

Bell Co: TX 76544-

Landholding Agency: Army

Property Number: 21200440085

Status: Excess

Comment: 2400 sq. ft., possible asbestos, most recent use—auto aide, off-site use only

Bldgs. 01121, 01156

Fort Hood

Bell Co: TX 76544-

Landholding Agency: Army

Property Number: 21200440086

Status: Excess

Comment: 6728, 7020 sq. ft., possible asbestos, most recent use—general, off-site use only

Bldg. 04220

Fort Hood

Bell Co: TX 76544-

Landholding Agency: Army

Property Number: 21200440087

Status: Excess

Comment: 12,427 sq. ft., possible asbestos, most recent use—general, off-site use only

Bldgs. 04223-04226

Fort Hood

Bell Co: TX 76544-

Landholding Agency: Army

Property Number: 21200440088

Status: Excess

Comment: 9000 sq. ft., possible asbestos, most recent use—general, off-site use only

Bldg. 04280

Fort Hood

Bell Co: TX 76544-

Landholding Agency: Army

Property Number: 21200440089

Status: Excess

Comment: 96 sq. ft., possible asbestos, most recent use—scale house, off-site use only

Bldg. 04335

Fort Hood

Bell Co: TX 76544-

Landholding Agency: Army

Property Number: 21200440090

Status: Excess

Comment: 3378 sq. ft., possible asbestos, most recent use—general, off-site use only

6 Bldgs.

Fort Hood

Bell Co: TX 76544-

Location: 0441, 04412, 04413, 04414, 04418, 04432

Landholding Agency: Army

Property Number: 21200440091

Status: Excess

Comment: various sq. ft., possible asbestos, most recent use—hq. bldg., off-site use only

Bldg. 04450

Fort Hood

Bell Co: TX 76544-

Landholding Agency: Army

Property Number: 21200440092

Status: Excess

Comment: 5310 sq. ft., possible asbestos, most recent use—general, off-site use only

3 Bldgs.

Fort Hood

Bell Co: TX 76544-

Location: 04452, 04456, 04457

Landholding Agency: Army

Property Number: 21200440093

Status: Excess

Comment: 5310 sq. ft., possible asbestos, most recent use—hq. bldg., off-site use only

Bldg. 04465

Fort Hood

Bell Co: TX 76544-

Landholding Agency: Army

Property Number: 21200440094

Status: Excess

Comment: 5310 sq. ft., possible asbestos, most recent use—general, off-site use only

Bldgs. 04466-04467

Fort Hood

Bell Co: TX 76544-

Landholding Agency: Army

Property Number: 21200440095

Status: Excess

Comment: 5310 sq. ft., possible asbestos, most recent use—hq. bldg., off-site use only

Bldg. 04468

Fort Hood

Bell Co: TX 76544-

Landholding Agency: Army

Property Number: 21200440096

Status: Excess

Comment: 3100 sq. ft., possible asbestos, most recent use—misc., off-site use only

Bldg. 04473

Fort Hood

Bell Co: TX 76544-

Landholding Agency: Army

Property Number: 21200440097

Status: Excess

Comment: 3100 sq. ft., possible asbestos, most recent use—general, off-site use only

Bldgs. 04475-04476

Fort Hood

Bell Co: TX 76544-

Landholding Agency: Army

Property Number: 21200440098

Status: Excess

Comment: 3241 sq. ft., possible asbestos, most recent use—general, off-site use only

Bldg. 04477

Fort Hood

Bell Co: TX 76544-

Landholding Agency: Army

Property Number: 21200440099

Status: Excess

Comment: 3100 sq. ft., possible asbestos, most recent use—general, off-site use only

Bldg. 07002

Fort Hood

Bell Co: TX 76544-

Landholding Agency: Army

Property Number: 21200440100

Status: Excess

Comment: 2598 sq. ft., possible asbestos, most recent use—fire station, off-site use only

Bldg. 7002A

Fort Hood

Bell Co: TX 76544-

Landholding Agency: Army

Property Number: 21200440101

Status: Excess

Comment: 73 sq. ft., possible asbestos, most recent use—storage, off-site use only

Bldgs. 31007, 31009

Fort Hood

Bell Co: TX 76544-

Landholding Agency: Army

Property Number: 21200440102

Status: Excess

Comment: 139,693 sq. ft., possible asbestos, most recent use—barracks/operations, off-site use only

Bldg. 31008

Fort Hood

Bell Co: TX 76544-

Landholding Agency: Army

Property Number: 21200440103

Status: Excess

Comment: 17,936 sq. ft., possible asbestos, most recent use—dining, off-site use only

Bldg. 31011

Fort Hood

Bell Co: TX 76544-

Landholding Agency: Army

Property Number: 21200440104

Status: Excess

Comment: 23624 sq. ft., possible asbestos, most recent use—hq. bldg., off-site use only

Bldg. 57001

Fort Hood

Bell Co: TX 76544-

Landholding Agency: Army

Property Number: 21200440105

Status: Excess

Comment: 53,024 sq. ft., possible asbestos, most recent use—storage, off-site use only

Bldgs. 90039-90040

Fort Hood

Bell Co: TX 76544-

Landholding Agency: Army

Property Number: 21200440106

Status: Excess

Comment: 13,124 sq. ft., possible asbestos, most recent use—general, off-site use only

Bldgs. 90053-90054

Fort Hood

Bell Co: TX 76544-

Landholding Agency: Army

Property Number: 21200440107

Status: Excess

Comment: 884 & 206 sq. ft., possible asbestos, most recent use—storage, off-site use only

Virginia

Bldg. 03137

Fort Belvoir

Ft. Belvoir Co: Fairfax VA 22060-

Landholding Agency: Army

Property Number: 21200440110

Status: Unutilized

Comment: 2966 sq. ft., presence of asbestos, most recent use—airfield operations, off-site use only

Land (by State)

Arizona

0.03 acres

Dobson & Elliott Road

Chandler Co: Maricopa AZ 85224-

Landholding Agency: Interior

Property Number: 61200440002

Status: Excess

Comment: 35′ x 35′

Unsuitable Properties

Buildings (by State)

California

28 Bldgs.

Edwards AFB

Area C

Kern Co: CA 93524-

Landholding Agency: Air Force

Property Number: 18200440001

Status: Excess

Reasons: Secured Area, Extensive deterioration

Bldg. 440

Naval Base Point Loma

Fleet Warfare Center

San Diego Co: CA

Landholding Agency: Navy

Property Number: 77200440002

Status: Excess

Reason: Extensive deterioration

Colorado

Loveland Substation

Loveland Co: Larimer CO 80537-

Landholding Agency: GSA

Property Number: 54200440007

Status: Surplus

Reason: Secured Area

GSA Number: 7-B-CO-0654

Pueblo Substation

Pueblo Co: CO 81006-

Landholding Agency: GSA

Property Number: 54200440008

Status: Underutilized

Reason: Secured Area

GSA Number: 7-B-CO-0653

Georgia

Bldg. B1412

International Airport

Garden City Co: Chatham GA 31408-

Landholding Agency: Air Force

Property Number: 18200440002

Status: Excess

Reason: Within 2000 ft. of flammable or explosive material

Hawaii

Bldgs. 1091, 1092

Hickam AFB

Hickam Co: HI

Landholding Agency: Air Force

Property Number: 18200440003

Status: Unutilized

Reasons: Within airport runway clear zone, Secured Area, Extensive deterioration

Bldg. 1864

Hickam AFB

Hickam Co: HI

Landholding Agency: Air Force

Property Number: 18200440004

Status: Unutilized

Reasons: Secured Area, Extensive deterioration

Bldg. 2074

Hickam AFB

Hickam Co: HI

Landholding Agency: Air Force

Property Number: 18200440005

Status: Unutilized

Reasons: Secured Area, Extensive deterioration,

Bldg. 2174

Hickam AFB

Hickam Co: HI

Landholding Agency: Air Force

Property Number: 18200440006

Status: Unutilized

Reasons: Within 2000 ft. of flammable or explosive material, Secured Area

Bldgs. 3426, 3431

Hickam AFB

Hickam Co: HI

Landholding Agency: Air Force

Property Number: 18200440007

Status: Unutilized

Reasons: Secured Area, Extensive deterioration

Bldgs. 12, 14

Kokee AFB

Kokee Co: HI

Landholding Agency: Air Force

Property Number: 18200440008

Status: Unutilized

Reasons: Secured Area, Extensive deterioration

Bldg. 62NS

Naval Station

Beckoning Point

Pearl Harbor Co: Honolulu HI 96860-

Landholding Agency: Navy

Property Number: 77200440003

Status: Unutilized

Reason: Secured Area

Bldg. 63NS

Naval Station

Beckoning Point

Pearl Harbor Co: Honolulu HI 96860-

Landholding Agency: Navy

Property Number: 77200440004

Status: Unutilized

Reason: Secured Area

Bldg. 1269

Pacific Missile Range Facility

Kekaha Co: Kauai HI 96752-

Landholding Agency: Navy

Property Number: 77200440006

Status: Excess

Reason: Extensive deterioration

Bldgs. 246, 1255

Pacific Missile Range Facility

Kekaha Co: Kauai HI 96752-

Landholding Agency: Navy

Property Number: 77200440007

Status: Excess

Reasons: Secured Area, Extensive deterioration

Idaho

Bldg. CPP729/741

Idaho National Eng & Env Lab

Scoville Co: Butte ID 83415-

Landholding Agency: Energy

Property Number: 41200440012

Status: Excess

Reason: Secured Area

Bldgs. CPP733, CPP736

Idaho National Eng & Env Lab

Scoville Co: Butte ID 83415-

Landholding Agency: Energy

Property Number: 41200440013

Status: Excess

Reason: Secured Area

Bldgs. CPP740, CPP742

Idaho National Eng & Env Lab

Scoville Co: Butte ID 83415-

Landholding Agency: Energy

Property Number: 41200440014

Status: Excess

Reason: Secured Area

Bldgs. CPP746, CPP748

Idaho National Eng & Env Lab

Scoville Co: Butte ID 83415-

Landholding Agency: Energy

Property Number: 41200440015

Status: Excess

Reason: Secured Area

3 Bldgs.

Idaho National Eng & Env Lab

CPP750, CPP751, CPP752

Scoville Co: Butte ID 83415-

Landholding Agency: Energy

Property Number: 41200440016

Status: Excess

Reason: Secured Area

3 Bldgs.

Idaho National Eng & Env Lab

CPP753, CPP753A, CPP754

Scoville Co: Butte ID 83415-

Landholding Agency: Energy

Property Number: 41200440017

Status: Excess

Reason: Secured Area

Bldgs. CPP760, CPP763

Idaho National Eng & Env Lab

Scoville Co: Butte ID 83415-

Landholding Agency: Energy

Property Number: 41200440018

Status: Excess

Reason: Secured Area

Bldgs. CPP764, CPP765

Idaho National Eng & Env Lab

Scoville Co: Butte ID 83415-

Landholding Agency: Energy

Property Number: 41200440019

Status: Excess

Reason: Secured Area

Bldgs. CPP767, CPP768

Idaho National Eng & Env Lab

Scoville Co: Butte ID 83415-

Landholding Agency: Energy

Property Number: 41200440020

Status: Excess

Reason: Secured Area

Bldgs. CPP791, CPP795

Idaho National Eng & Env Lab

Scoville Co: Butte ID 83415-

Landholding Agency: Energy

Property Number: 41200440021

Status: Excess

Reason: Secured Area

3 Bldgs.

Idaho National Eng & Env Lab

CPP796, CPP797, CPP799

Scoville Co: Butte ID 83415-

Landholding Agency: Energy

Property Number: 41200440022

Status: Excess

Reason: Secured Area

Bldgs. CPP701B, CPP719

Idaho National Eng & Env Lab

Scoville Co: Butte ID 83415-

Landholding Agency: Energy

Property Number: 41200440023

Status: Excess

Reason: Secured Area

Bldgs. CPP720A, CPP720B

Idaho National Eng & Env Lab

Scoville Co: Butte ID 83415-

Landholding Agency: Energy

Property Number: 41200440024

Status: Excess

Reason: Secured Area

Bldg. CPP1781

Idaho National Eng & Env Lab

Scoville Co: Butte ID 83415-

Landholding Agency: Energy

Property Number: 41200440025

Status: Excess

Reason: Secured Area

2 Bldgs.

Idaho National Eng & Env Lab

CPP0000VES-UTI-111, VES-UTI-112

Scoville Co: Butte ID 83415-

Landholding Agency: Energy

Property Number: 41200440026

Status: Excess

Reason: Secured Area

3 Bldgs.

Idaho National Eng & Env Lab

TAN607, TAN666, TAN668

Scoville Co: Butte ID 83415-

Landholding Agency: Energy

Property Number: 41200440027

Status: Excess

Reason: Secured Area

Bldgs. TAN704, TAN733

Idaho National Eng & Env Lab

Scoville Co: Butte ID 83415-

Landholding Agency: Energy

Property Number: 41200440028

Status: Excess

Reason: Secured Area

Bldgs. TAN1611, TAN1614

Idaho National Eng & Env Lab

Scoville Co: Butte ID 83415-

Landholding Agency: Energy

Property Number: 41200440029

Status: Excess

Reason: Secured Area

Illinois

Bldgs. 3220, 3221

Naval Station

Great Lakes Co: IL 60088-

Landholding Agency: Navy

Property Number: 77200440008

Status: Excess

Reason: Extensive deterioration

Kansas

3 Vault Toilets

West Rolling Hills

Milford Lake

Junction City Co: KS 66441-

Landholding Agency: COE

Property Number: 31200440003

Status: Excess

Reason: Extensive deterioration

Vault Toilet

East Rolling Hills

Milford Lake

Junction City Co: KS 66441-

Landholding Agency: COE

Property Number: 31200440004

Status: Excess

Reason: Extensive deterioration

Kentucky

Comfort Station

Holmes Bend Access

Green River Lake

Adair Co: KY

Landholding Agency: COE

Property Number: 31200440005

Status: Excess

Reason: Extensive deterioration

Steel Structure

Mcalpine Locks & Dam

Louisville Co: KY 40212-

Landholding Agency: COE

Property Number: 31200440006

Status: Excess

Reasons: Within 2000 ft. of flammable or explosive material Floodway

Comfort Station

Mcalpine Locks & Dam

Louisville Co: KY 40212-

Landholding Agency: COE

Property Number: 31200440007

Status: Excess

Reasons: Within 2000 ft. of flammable or explosive material Floodway

Shelter

Mcalpine Locks & Dam

Louisville Co: KY 40212-

Landholding Agency: COE

Property Number: 31200440008

Status: Excess

Reasons: Within 2000 ft. of flammable or explosive material Floodway

Parking Lot

Mcalpine Locks & Dam

Louisville Co: KY 40212-

Landholding Agency: COE

Property Number: 31200440009

Status: Excess

Reasons: Within 2000 ft. of flammable or explosive material Floodway

Missouri

Privy

Pomme de Terre Lake

Wheatland Co: Hickory MO

Landholding Agency: COE

Property Number: 31200440010

Status: Underutilized

Reason: Floodway

Vault Toilet

Ruark Bluff

Stockton Co: MO

Landholding Agency: COE

Property Number: 31200440011

Status: Excess

Reason: Extensive deterioration

Comfort Station

Overlook Area

Stockton Co: MO

Landholding Agency: COE

Property Number: 31200440012

Status: Excess

Reason: Extensive deterioration

New York

Bldgs. 735, 740

Hancock Field

Syracuse Co: Onondaga NY 13211-

Landholding Agency: Air Force

Property Number: 18200440009

Status: Underutilized

Reasons: Within 2000 ft. of flammable or explosive material

Secured Area

Bldgs. 762, 778

Hancock Field

Syracuse Co: Onondaga NY 13211-

Landholding Agency: Air Force

Property Number: 18200440010

Status: Underutilized

Reasons: Within 2000 ft. of flammable or explosive material Secured Area

Bldgs. 0197A, 0422A

Brookhaven National Lab

Upton Co: Suffolk NY 11973-

Landholding Agency: Energy

Property Number: 41200440030

Status: Excess

Reason: Extensive deterioration

North Carolina

Bldgs. 20, 25

Charlotte/Douglas IAP

Charlotte Co: Mecklenburg NC 28208-

Landholding Agency: Air Force

Property Number: 18200440011

Status: Excess

Reasons: Within 2000 ft. of flammable or explosive material

Secured Area

Oregon

Testing Laboratory 1491 NW Graham Road

Troutdale Co: OR 97060-

Landholding Agency: GSA

Property Number: 54200440012

Status: Surplus

Reasons: Within 2000 ft. of flammable or explosive material

Within airport runway clear zone

GSA Number : 9-D-OR-729

Pennsylvania

Bldgs. 201, 203, 204

Pittsburgh IAP

Coraopolis Co: Allegheny PA 15108-

Landholding Agency: Air Force

Property Number: 18200440012

Status: Excess

Reason: Secured Area

Bldgs. 208, 210, 211

Pittsburgh IAP

Coraopolis Co: Allegheny PA 15108-

Landholding Agency: Air Force

Property Number: 18200440013

Status: Excess

Reason: Secured Area

Rhode Island

Facilities 9, 10

Quonset State Airport

N. Kingstown Co: RI 02852-

Landholding Agency: Air Force

Property Number: 18200440014

Status: Unutilized

Reasons: Within 2000 ft. of flammable or explosive material Secured Area

Facility 13

Quonset State Airport

N. Kingstown Co: RI 02852-

Landholding Agency: Air Force

Property Number: 18200440015

Status: Unutilized

Reasons: Within 2000 ft. of flammable or explosive material Within airport runway clear zone Secured Area

Facility 25

Quonset State Airort

N. Kingstown Co: RI 02852-

Landholding Agency: Air Force

Property Number: 18200440016

Status: Unutilized

Reasons: Within 2000 ft. of flammable or explosive material Secured Area

South Carolina

Bldg. 264

Mcentire Air Natl Station

Eastover Co: Richland SC 29044-

Landholding Agency: Air Force

Property Number: 18200440017

Status: Excess

Reason: Secured Area

Bldg. 608-000P

Savannah River Site

Aiken Co: SC 29802-

Landholding Agency: Energy

Property Number: 41200440031

Status: Excess

Reason: Secured Area

Bldg. 690-000N

Savannah River Site

Aiken Co: SC 29802-

Landholding Agency: Energy

Property Number: 41200440032

Status: Underutilized

Reason: Secured Area

Bldg. 763-106N

Savannah River Site

Aiken Co: SC 29802-

Landholding Agency: Energy

Property Number: 41200440033

Status: Underutilized

Reason: Secured Area

Tennessee

Bldgs. 104, 105

Alcoa ANG Station

Louisville Co: Blount TN 37777-

Landholding Agency: Air Force

Property Number: 18200440018

Status: Unutilized

Reason: Secured Area

Bldg. 106

Alcoa ANG Station

Louisville Co: Blount TN 37777-

Landholding Agency: Air Force

Property Number: 18200440019

Status: Unutilized

Reason: Secured Area

Bldgs. 109, 110

Alcoa ANG Station

Louisville Co: Blount TN 37777-

Landholding Agency: Air Force

Property Number: 18200440020

Status: Unutilized

Reason: Secured Area

Bldg. 111

Alcoa ANG Station

Louisville Co: Blount TN 37777-

Landholding Agency: Air Force

Property Number: 18200440021

Status: Unutilized

Reason: Secured Area

Pump House/6 acres

Volunteer Army Ammo Plant

Chattanooga Co: Hamilton TN 37422-

Landholding Agency: GSA

Property Number: 54200440013

Status: Surplus

Reason: Within 2000 ft. of flammable or explosive material

GSA Number: 4DTN05943T

Texas

Border Patrol Station

Hebbronville Co: Jim Hogg TX 78361-

Landholding Agency: GSA

Property Number: 54200440016

Status: Surplus

Reason: Within 2000 ft. of flammable or explosive material

GSA Number: 7-J-TX-0621B

Virginia

Bldg. 3079

Marine Corps Base

Quantico Co: VA 22134-

Landholding Agency: Navy

Property Number: 77200440009

Status: Excess

Reasons: Secured Area; Extensive deterioration

Washington

Bldgs. 2652, 2705

Naval Air Station

Whidbey

Oak Harbor Co: WA 98277-

Landholding Agency: Navy

Property Number: 77200440010

Status: Unutilized

Reason: Secured Area

Bldgs. 79, 884

NAS Whidbey Island

Seaplane Base

Oak Harbor Co: WA 98277-

Landholding Agency: Navy

Property Number: 77200440011

Status: Unutilized

Reason: Secured Area

Bldg. 121

NAS Whidbey Island

Ault Field

Oak Harbor Co: WA 98277-

Landholding Agency: Navy

Property Number: 77200440012

Status: Unutilized

Reason: Secured Area

Bldg. 419

NAS Whidbey Island

Ault Field

Oak Harbor Co: WA 98277-

Landholding Agency: Navy

Property Number: 77200440013

Status: Unutilized

Reason: Secured Area

Bldgs. 2609, 2610

NAS Whidbey Island

Ault Field

Oak Harbor Co: WA 98277-

Landholding Agency: Navy

Property Number: 77200440014

Status: Unutilized

Reason: Secured Area

Bldg. 2753

NAS Whidbey Island

Ault Field

Oak Harbor Co: WA 98277-

Landholding Agency: Navy

Property Number: 77200440015

Status: Unutilized

Reason: Secured Area

Land (by State)

Hawaii

Portion/PR111016

Naval Station

Beckoning Point

Pearl Harbor Co: Honolulu HI 96860-

Landholding Agency: Navy

Property Number: 77200440005

Status: Unutilized

Reason: Secured Area

Tennessee

51 acres

Volunteer Army Ammo Plant

Chattanooga Co: Hamilton TN 37422-

Landholding Agency: GSA

Property Number: 54200440014

Status: Surplus

Reason: Contamination

GSA Number: 4DTN05943V

11 acres

Volunteer Army Ammo Plant

Chattanooga Co: Hamilton TN 37422-

Landholding Agency: GSA

Property Number: 54200440015

Status: Surplus

Reason: Contamination

GSA Number: 4DTN05943W

[FR Doc. 04-26854 Filed 12-9-04; 8:45 am]

BILLING CODE 4210-29-P